DEPARTMENT OF TRANSPORTATION

Federal Motor Carrier Safety Administration

49 CFR Parts 360, 365, 366, 368, 385, 387, 390 and 392

[Docket No. FMCSA-1997-2349]

RIN 2126-AB85; Formerly 2126-AA22

Unified Registration System; Correction

AGENCY: Federal Motor Carrier Safety Administration (FMCSA), DOT.

ACTION: Final rule; correction.

SUMMARY: FMCSA is correcting the effective and compliance dates for its August 23, 2013, Unified Registration System (URS) final rule, as revised on October 21, 2015. The 2013 URS final rule was issued to improve the registration process for motor carriers, property brokers, freight forwarders, Intermodal Equipment Providers (IEPs), hazardous materials safety permit (HMSP) applicants, and cargo tank facilities required to register with FMCSA, and streamline the existing Federal registration processes to ensure the Agency can more efficiently track these entities. The October 21, 2015 final rule made slight revisions to the 2013 rule and delayed the effective dates of that rule. This final rule corrects the effective and compliance dates, revised in 2015, and corrects regulatory provisions that have not yet gone into effect, as well as several temporary sections that are in effect already, to allow FMCSA additional time to complete the information technology (IT) systems work.

DATES: Effective Dates: The effective of this rule is July 28, 2016.

The effective date of the rule published at 80 FR 63695 (October 21, 2015), is delayed until January 14, 2017, and §§ 365.T106, 368.T3, and 390.T200 are effective until January 13, 2017.

The corrections to the rule published October 21, 2015 (80 FR 63695), are effective on January 14, 2017.

The effective date of the rule published at 78 FR 52608 (August 23, 2013) is further delayed until January 14, 2017.

Compliance Dates: The compliance date for the rule published at 80 FR 63695 (October 21, 2015), is delayed until January 14, 2017, and new applicants must comply with §§ 365.T106, 368.T3 or 390.T200 (as applicable) until January 13, 2017; private hazardous material carriers and exempt for-hire carriers must comply with § 387.19 or § 387.43 (as applicable) by April 14, 2017; and all entities must comply with § 366.2 by April 14, 2017.

ADDRESSES: All background documents, comments, and materials related to this rule may be viewed in docket number FMCSA-1997-2349 using either of the following methods:

• Federal eRulemaking Portal: http://www.regulations.gov.

• Docket Management Facility (M-30), U.S. Department of Transportation, West Building Ground Floor, Room W12-140, 1200 New Jersey Avenue SE., Washington, DC 20590-0001.

FOR FURTHER INFORMATION CONTACT: Mr. Kenneth Riddle, 1200 New Jersey Avenue SE., Washington, DC 20590-0001, by telephone at (202) 366-9616 or via email at kenneth.riddle@dot.gov. Office hours are from 8:00 a.m. to 4:30 p.m. ET, Monday through Friday, except Federal holidays.

SUPPLEMENTARY INFORMATION:

Public Participation

Viewing Documents

To view comments submitted to previous rulemaking documents on this subject, go to http://www.regulations.gov and click on the “Read Comments” box in the upper right hand side of the screen. Then, in the “Keyword” box, insert “FMCSA-1997-2349” and click “Search.” Next, click “Open Docket Folder” in the “Actions” column. Finally, in the “Title” column, click on the document you would like to review. If you do not have access to the Internet, you may view the docket online by visiting the Docket Management Facility in Room W12-140 on the ground floor of the DOT West Building, 1200 New Jersey Avenue SE., Washington, DC 20590, between 9 a.m. and 5 p.m., ET, Monday through Friday, except Federal holidays.

Privacy Act

All comments received were posted without change to http://www.regulations.gov. In accordance with 5 U.S.C. 553(c), DOT previously solicited comments from the public to better inform its rulemaking process. DOT posted these comments, without edit, including any personal information the commenter provides, to www.regulations.gov, as described in the system of records notice (DOT/ALL-14 FDMS), which can be reviewed at www.dot.gov/privacy.

Corrections

The FMCSA is correcting the effective and compliance dates for its August 23, 2013, Unified Registration System (URS) final rule, as revised on October 21, 2015, in order to delay implementation of the URS provisions. While the FMCSA had hoped to be able to reach full implementation by September 30, 2016, unforeseen delays and complications in the IT development process require that we push the full implementation back until January 14, 2017. These delays include added complexities due to an unrelated system migration to the cloud and also due to the logistics of transferring millions of records.

In order to make this change, FMCSA must correct regulatory provisions that have not yet gone into effect, as well as several temporary sections that are in effect already. The method for making corrections differs depending upon whether or not the provision being corrected has gone into effect. First, under the heading “Federal Register corrections,” we provide the corrections for those provisions that are not yet in effect; these corrections will update the effective date for those provisions from September 30, 2016, to January 14, 2017. This will also update the compliance dates for certain provisions from December 31, 2016, to April 14, 2017.

We are also making minor corrections to fix errors found in the final rule published on October 21, 2015. In § 366.4, we are adding a sentence to clarify the requirements for motor carriers operating in Hawaii or Alaska, as these were inadvertently not covered in the original text. In § 385.305, we are correcting the reference to the online registration form MCSA-1, which was published without the “1” after the hyphen. In § 387.301, we are correcting the text in paragraph (a)(1) to clarify the financial responsibility requirements for school buses, including third parties providing school bus services. We have identified this as an area causing confusion, so a correction is needed.

After those corrections, numbered 1 through 6, we present the corrections to those provisions that came into effect on December 12, 2015. These corrections, which follow the “CFR amendments” heading, are presented as you would see amendatory instructions in any final rule. The result of these corrections will be to extend the effective dates of the temporary provisions in parts 365, 368, and 390 to January 14, 2017.

Federal Register Corrections

In FR Doc. 2015-26625 appearing on page 63695 in the Federal Register of Wednesday, October 21, 2015 (80 FR 63695), make the following corrections:

1. Beginning on page 63702, in the first column, in amendatory instruction #1 and continuing through all of the amendatory instructions except for #5, #24, and #59, the date “September 30, 2016” is corrected to read “January 14, 2017”.

2. On page 63706, in the first column, in § 366.2, the date “December 31, 2016” is corrected to read “April 14, 2017”.

3. On page 63706, in the first column, in § 366.4(a), the text is corrected to read “Every motor carrier, except a motor carrier operating exclusively in Alaska or Hawaii, must designate process agents for all 48 contiguous States and the District of Columbia, unless its operating authority registration is limited to fewer than 48 States and DC. When a motor carrier's operating authority registration is limited to fewer than 48 States and DC, it must designate process agents for each State in which it is authorized to operate and for each State traversed during such operations. Every motor carrier operating in the United States in the course of transportation between points in a foreign country shall file a designation for each State traversed. Every motor carrier maintaining a principal place of business and operating exclusively in Alaska or Hawaii must designate a process agent for the State where operations are conducted.”

4. On page 63707, in the second column, in § 385.305(b)(2), the phrase “Form MCSA-,” is corrected to read “Form MCSA-1,”.

5. On page 63709, in the first column, in § 387.19, the date “December 31, 2016” is corrected to read “April 14, 2017”.

6. On page 63709, in the third column, in § 387.301(a)(1), the text is corrected by adding the following sentence at the end of the paragraph: “Passenger motor carriers exempt under § 387.27 of this part are not subject to this limitation on transportation or required to file evidence of financial responsibility.”

CFR Amendments

List of Subjects

49 CFR Part 360

Administrative practice and procedure, Brokers, Buses, Freight forwarders, Hazardous materials transportation, Highway safety, Insurance, Motor carriers, Motor vehicle safety, Moving of household goods, Penalties, Reporting and recordkeeping requirements, Surety bonds.

49 CFR Part 365

Administrative practice and procedure, Brokers, Buses, Freight forwarders, Motor carriers, Moving of household goods.

49 CFR Part 366

Brokers, Motor carriers, Freight forwarders, Process agents.

49 CFR Part 368

Administrative practice and procedure, Insurance, Motor carriers.

49 CFR Part 385

Administrative practice and procedure, Highway safety, Incorporation by reference, Mexico, Motor carriers, Motor vehicle safety, Reporting and recordkeeping requirements.

49 CFR Part 387

Buses, Freight, Freight forwarders, Hazardous materials transportation, Highway safety, Insurance, Intergovernmental relations, Motor carriers, Motor vehicle safety, Moving of household goods, Penalties, Reporting and recordkeeping requirements, Surety bonds.

49 CFR Part 390

Highway safety, Intermodal transportation, Motor carriers, Motor vehicle safety, Reporting and recordkeeping requirements.

49 CFR Part 392

Alcohol abuse, Drug abuse, Highway safety, Motor carriers.

In consideration of the foregoing, FMCSA is amending 49 CFR chapter III, subchapter B, parts 365, 368, and 390 are corrected by making the following correcting amendments:

PART 365—RULES GOVERNING APPLICATIONS FOR OPERATING AUTHORITY

1. The authority citation for part 365 continues to read as follows:

Authority: 5 U.S.C. 553 and 559; 49 U.S.C. 13101, 13301, 13901-13906, 14708, 31138, and 31144; 49 CFR 1.87.

2. Revise § 365.T106(d) to read as follows:

§ 365.T106 Starting the application process: URS online application.

* * * * *

(d) This section is in effect from December 12, 2015 through January 13, 2017.

PART 368—APPLICATION FOR A CERTIFICATE OF REGISTRATION TO OPERATE IN MUNICIPALITIES IN THE UNITED STATES ON THE UNITED STATES-MEXICO INTERNATIONAL BORDER OR WITHIN THE COMMERCIAL ZONES OF SUCH MUNICIPALITIES

3. The authority citation for part 368 continues to read as follows:

Authority: 49 U.S.C. 13301 and 13902; Pub. L. 106-159, 113 Stat. 1748; and 49 CFR 1.87.

4. Revise § 368.T3(d) to read as follows:

§ 368.T3 Starting the application process: URS online application.

* * * * *

(d) This section is in effect from December 12, 2015 through January 13, 2017.

PART 390—FEDERAL MOTOR CARRIER SAFETY REGULATIONS; GENERAL

5. The authority citation for part 390 continues to read as follows:

Authority: 49 U.S.C. 504, 508, 31132, 31133, 31134, 31136, 31137, 31144, 31151, 31502; sec. 114, Pub. L. 103-311, 108 Stat. 1673, 1677, 1678; sec. 212, 217, Pub. L. 106-159, 113 Stat. 1748, 1766, 1767; sec. 229, Pub. L. 106-159 (as transferred by sec. 4115 and amended by secs. 4130-4132, Pub. L. 109-59, 119 Stat. 1144, 1726, 1743-44); sec. 4136, Pub. L. 109-59, 119 Stat. 1144, 1745; sections 32101(d) and 32934, Pub. L. 112-141, 126 Stat. 405, 778, 830; sec. 2, Pub. L. 113-125, 128 Stat. 1388; and 49 CFR 1.87.

6. Revise § 390.T200(a) and (d) to read as follows:

§ 390.T200 USDOT Registration.

(a) Purpose. This section establishes who must register with FMCSA using the Form MCSA-1, the URS online application, beginning on December 12, 2015 and continuing through January 13, 2017.

* * * * *

(d) Effective period. This section is in effect from December 12, 2015, through January 13, 2017.

Issued under authority delegated in 49 CFR 1.87 on: July 14, 2016.
T.F. Scott Darling, III,
Acting Administrator.

[FR Doc. 2016-17461 Filed 7-27-16; 8:45 am]

BILLING CODE 4910-EX-P